ENVIRONMENTAL PROTECTION AGENCY

40 CFR Part 52

[Dockets: OR 68-7283b, OR 37-2-6301b, and OR 37-1-6301b; FRL-7035-7]

Approval and Promulgation of Implementation Plans; OR

AGENCY: Environmental Protection Agency (EPA).

ACTION: Proposed rule.

SUMMARY: EPA is proposing to approve most but not all of the State Implementation Plan (SIP) revisions submitted by the State of Oregon. This rulemaking proposes to approve most provisions of the Oregon Visibility State Implementation Plan (SIP) submitted August 26, 1993, smoke management provisions submitted on August 26, 1993, revisions to the Oregon field burning program submitted July 3, 1997, and the amendments to the Smoke Management Plan for the Blue Mountains submitted September 27, 1995. We are proposing a combined action on these separate submissions because they address or are affected by the control of particulate matter from area sources, specifically smoke from field burning and smoke from forestry burning. These rules are also linked through the Oregon Visibility SIP, which seeks to control visibility degradation through field burning programs and smoke management programs.

EPA is proposing to take no action on the provision which changes the review period from three to five years in the Visibility rules.

In the Final Rules section of this Federal Register, the EPA is approving the Oregon SIP submittals as a direct final rule without prior proposal because the Agency views this as a noncontroversial submittal amendment and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received on or before December 3, 2001.

ADDRESSES: Written comments should be addressed to, Steven K. Body, (OAQ-107), Office of Air Quality, at the EPA Regional Office listed below.

Copies of air quality data and other relevent information supporting this action are available for inspection during normal business hours at the following location: EPA, Office of Air Quality (OAQ-107), 1200 Sixth Avenue, Seattle, Washington 98101.

FOR FURTHER INFORMATION CONTACT: Steven K. Body, EPA, Office of Air Quality (OAQ-107), Seattle, Washington, (206) 553-0782.

SUPPLEMENTARY INFORMATION: For additional information, see the Direct Final rule which is located in the Rules section of this Federal Register.

Dated: July 23, 2001.
Ronald A. Kreizenbeck,
Acting Regional Administrator, Region 10.

[FR Doc. 01-27280 Filed 10-31-01; 8:45 am]

BILLING CODE 6560-50-P